FEDERAL DEPOSIT INSURANCE CORPORATION

Notice to All Interested Parties of Intent To Terminate Receiverships

Notice is hereby given that the Federal Deposit Insurance Corporation (FDIC or Receiver), as Receiver for the institutions listed below, intends to terminate its receivership for said institutions.

Notice of Intent To Terminate Receiverships
Fund | Receivership name | City | State | Date of appointment of receiver
10004 | Hume Bank | Hume | MO | 03/07/2008
10005 | ANB Financial, NA | Bentonville | AR | 05/09/2008
10026 | Sanderson State Bank | Sanderson | TX | 12/12/2008
10093 | First State Bank of Altus | Altus | OK | 07/31/2009
10104 | Dwelling House Savings and Loan | Pittsburgh | PA | 08/14/2009
10131 | Hillcrest Bank Florida | Naples | FL | 10/23/2009
10158 | Republic Federal Bank, NA | Miami | FL | 12/11/2009
10166 | Independent Bankers' Bank | Springfield | IL | 12/18/2009
10188 | Carson River Community Bank | Carson City | NV | 02/26/2010
10190 | Waterfield Bank | Germantown | MD | 03/05/2010
10202 | Bank of Hiawassee | Hiawassee | GA | 03/19/2010
10205 | Desert Hills Bank | Phoenix | AZ | 03/26/2010
10212 | City Bank | Lynwood | WA | 04/16/2010
10220 | Citizens Bank and Trust Company of Chicago | Chicago | IL | 04/23/2010
10226 | CF Bancorp | Port Huron | MI | 04/30/2010
10267 | SouthwestUSA Bank | Las Vegas | NV | 07/23/2010
10295 | Shoreline Bank | Shoreline | WA | 10/01/2010
10298 | Security Savings Bank | Olathe | KS | 10/15/2010
10300 | First Bank of Jacksonville | Jacksonville | FL | 10/22/2010
10305 | The Gordon Bank | Gordon | GA | 10/22/2010
10330 | The Bank of Asheville | Ashville | NC | 01/21/2011
10336 | American Trust Bank | Roswell | GA | 02/04/2011
10348 | Legacy Bank | Milwaukee | WI | 03/11/2011
10349 | The First National Bank of Davis | Davis | OK | 03/11/2011

The liquidation of the assets for each receivership has been completed. To the extent permitted by available funds and in accordance with law, the Receiver will be making a final dividend payment to proven creditors.

Based upon the foregoing, the Receiver has determined that the continued existence of the receiverships will serve no useful purpose. Consequently, notice is given that the receiverships shall be terminated, to be effective no sooner than thirty days after the date of this notice. If any person wishes to comment concerning the termination of any of the receiverships, such comment must be made in writing, identify the receivership to which the comment pertains, and be sent within thirty days of the date of this notice to: Federal Deposit Insurance Corporation, Division of Resolutions and Receiverships, Attention: Receivership Oversight Department 34.6, 1601 Bryan Street, Dallas, TX 75201.

No comments concerning the termination of the above-mentioned receiverships will be considered which are not sent within this time frame.

(Authority: 12 U.S.C. 1819)

Federal Deposit Insurance Corporation.
Dated at Washington, DC, on March 24, 2022.
James P. Sheesley,
Assistant Executive Secretary.

[FR Doc. 2022-06655 Filed 3-29-22; 8:45 am]

BILLING CODE 6714-01-P